DEPARTMENT OF JUSTICE

Antitrust Division

Notice Pursuant to the National Cooperative Research and Production Act of 1993—Microcontaminant Reduction Venture

Notice is hereby given that, on August 29, 2005, pursuant to Section 6(a) of the National Cooperative Research and Production Act of 1993, 15 U.S.C. 4301 et seq. (“the Act”), Microcontaminant Reduction Venture (“MRV”) has filed written notifications simultaneously with the Attorney General and the Federal Trade Commission disclosing changes in its membership. The notifications were filed for the purpose of extending the Act's provisions limiting the recovery of antitrust plaintiffs to actual damages under specified circumstances. Specifically, one of the parties to MRV, Vulcan Materials Company, Birmingham, AL, has ceased manufacturing pentachlorophenol, and MRV has terminated.

On June 13, 2001, MRV filed its original notification pursuant to section 6(a) of the Act. The Department of Justice published a notice in the Federal Register pursuant to section 6(b) of the Act on July 19, 2001 (66 FR 37709).

The last notification was filed with the Department on June 8, 2005. A notice was published in the Federal Register pursuant to section 6(b) of the Act on July 7, 2005 (70 FR 39338).

Dorothy B. Fountain,
Deputy Director of Operations Antitrust Division.

[FR Doc. 05-18946 Filed 9-21-05; 8:45 am]

BILLING CODE 4410-11-M